NUCLEAR REGULATORY COMMISSION

[Docket No. NRC-2012-0191]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval of the vendor information collection method that is summarized below. We are required to publish this notice in the Federal Register under the provisions of the Paperwork Reduction Act of 1995 (44 U.S.C. Chapter 35).

Information pertaining to the requirement to be submitted:

1. The title of the information collection: NRC Reactor Vendor Registration.

2. Current OMB approval number: 3150-XXXX.

3. How often the collection is required: Annually.

4. Who is required or asked to report: Power reactor licensee and applicants are asked to report voluntary.

5. The number of annual respondents: 192.

6. The number of hours needed annually to complete the requirement or request: 183.5 hrs.

7. Abstract: The NRC is commencing an effort to identify vendors of safety-related parts and services to nuclear power plants both directly (vendors) and indirectly (sub-vendors). For the purpose of this document, the term vendor includes supplier. The NRC licensees and applicants are responsible for the safety of facilities licensed by the NRC. As such, they are responsible for ensuring that their vendors meet applicable regulations and requirements, both technical and quality, in purchase documents. In order to ensure that licensees are meeting the regulatory requirements in this area, the NRC inspects vendors to evaluate their conformance with technical and quality requirements in part 21 of Title 10 of the Code of Federal Regulations (10 CFR), “Reporting of Defects and Noncompliance,” and Appendix B, “Quality Assurance Criteria for Nuclear Power Plants and Fuel Reprocessing Plants,” to 10 CFR part 50, as required by procurement contracts with licensees. There is no requirement for vendors to register with the NRC. This collection will assist the NRC in assessing the number and variety of vendors of safety-related parts and services for resource and vendor inspection planning. As part of that effort, the NRC plans to (1) issue a communication to power reactor licensee and applicants requesting the voluntary submittal of vendor information and (2) create a Web page on its public Web site that allows vendor and sub-vendor information to be submitted individually. When power reactor licensee and applicants respond either by submitting their information by mail or online they will be asked to provide the following information: Vendor names, vendor addresses, vendor points of contact, vendor point of contact email address, vendor telephone number, scope of supply, and comments. Additionally, Vendors will also be able to use this Web page voluntarily to complete self registration.

Submit, by November 23, 2012, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly available documents, including the draft supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice. Comments submitted in writing or in electronic form will be made available for public inspection. Because your comments will not be edited to remove any identifying or contact information, the NRC cautions you against including any information in your submission that you do not want to be publicly disclosed. Comments submitted should reference Docket No. NRC-2012-0191.

You may submit your comments by any of the following methods: Electronic comments to http://www.regulations.gov and search for Docket No. NRC-2012-0191. Mail comments to the NRC's Clearance Officer, Tremaine Donnell (T-5 F53), U.S. Nuclear Regulatory Commission, Washington, DC 20555-0001. Questions about the information collection requirements may be directed to the NRC's Clearance Officer, Tremaine Donnell (T-5 F53), U.S. Nuclear Regulatory Commission, Washington, DC 20555-0001, by telephone at 301-415-6258, or by email to INFOCOLLECTS.Resource@NRC.GOV.

Dated at Rockville, Maryland, this 18th day of September, 2012.
For the Nuclear Regulatory Commission.
Tremaine Donnell,
NRC Clearance Officer, Office of Information Services.

[FR Doc. 2012-23469 Filed 9-21-12; 8:45 am]

BILLING CODE 7590-01-P